DEPARTMENT OF THE TREASURY

Office of the Comptroller of the Currency

BOARD OF GOVERNORS OF THE FEDERAL RESERVE SYSTEM

FEDERAL DEPOSIT INSURANCE CORPORATION

DEPARTMENT OF THE TREASURY

Office of Thrift Supervision

Agency Information Collection Activities; Submission for OMB Review; Comment Request

AGENCIES: Office of the Comptroller of the Currency (OCC), Treasury; Board of Governors of the Federal Reserve System (Board); Federal Deposit Insurance Corporation (FDIC); and Office of Thrift Supervision (OTS), Treasury.

ACTION: Notice of information collection to be submitted to OMB for review and approval under the Paperwork Reduction Act of 1995.

SUMMARY: The OCC, Board, FDIC, and OTS (Agencies), as part of their continuing effort to reduce paperwork and respondent burden, invite the general public and other Federal agencies to comment on proposed revisions to continuing information collections, as required by the Paperwork Reduction Act of 1995. The Agencies are soliciting comments on proposed revisions to the information collections titled: “Interagency Biographical and Financial Report” and “Interagency Notice of Change in Control.” Additionally, the OCC is making other clarifying changes to the Comptroller's Licensing Manual. Also, the Board is proposing to extend, without revision, the Interagency Notice of Change in Director or Senior Executive Officer. The Agencies also give notice that they have sent the information collections to OMB for review and approval. The Agencies may not conduct or sponsor, and the respondent is not required to respond to, an information collection unless it displays a currently valid Office of Management and Budget (OMB) control number.

DATES: You should submit written comments by October 18, 2004.

ADDRESSES: Interested parties are invited to submit comments to any or all of the Agencies and the OMB Desk Officer. All comments, which should refer to the OMB control number, will be shared among the Agencies:

OCC: Office of the Comptroller of the Currency, Public Information Room, 250 E Street, SW., Mail Stop 1-5, Attention: 1557-0014, Washington, DC 20219. Due to delays in paper mail delivery in the Washington area, commenters are urged to fax comments to (202) 874-4448, or e-mail comments to regs.comments@occ.treas.gov. You may make an appointment to inspect and photocopy comments by calling (202) 874-5043.

Board: Comments may be mailed to Ms. Jennifer J. Johnson, Secretary, Board of Governors of the Federal Reserve System, 20th Street and Constitution Avenue, NW., Washington, DC 20551. However, because paper mail in the Washington area and at the Board of Governors is subject to delay, please consider submitting your comments by e-mail to regs.comments@federalreserve.gov, or faxing them to the Office of the Secretary at 202-452-3819 or 202-452-3102. Members of the public may inspect comments in Room MP-500 between 9 a.m. and 5 p.m. on weekdays pursuant to 261.12, except as provided in 261.14, of the Board's Rules Regarding Availability of Information, 12 CFR 261.12 and 261.14.

FDIC: Comments may be mailed to Thomas Nixon, Legal Division, Federal Deposit Insurance Corporation, 550 17th Street, NW., Washington, DC 20429. Comments also may be hand-delivered to the guard station at the rear of the 17th Street Building (located on F Street), on business days between 7 a.m. and 5 p.m. or submitted by e-mail to comments@fdic.gov. Comments may be inspected and photocopied in the FDIC Public Information Center, Room 100, 801 17th Street, NW., Washington, DC between 9 a.m. and 4:30 p.m. on business days.

OTS: Information Collection Comments, Chief Counsel's Office, Office of Thrift Supervision, 1700 G Street, NW., Washington, DC 20552, Attention: 1550-0005, -0015, -0032, -0047; FAX number (202) 906-6518; or e-mail to infocollection.comments@ots.treas.gov. OTS will post comments and the related index on the OTS Internet Site at http://www.ots.treas.gov. In addition, interested persons may inspect comments at the Public Reading Room, 1700 G Street, NW., by appointment. To make an appointment, call (202) 906-5922, send an e-mail to publicinfo@ots.treas.gov, or send a fax to (202) 906-7755.

OMB Desk Officer for the Agencies: Mark Menchik, Office of Information and Regulatory Affairs, Office of Management and Budget, New Executive Office Building, Room 10235, Washington, DC 20503, or e-mail to mmenchik@omb.eop.gov.

FOR FURTHER INFORMATION CONTACT: You may request additional information from:

OCC: John Ference, OCC Clearance Officer, or Camille Dixon, (202) 874-5090, Legislative and Regulatory Activities Division, Office of the Comptroller of the Currency, 250 E Street, SW., Washington, DC 20219. For subject matter information, you may contact Cheryl Martin at (202) 874-4614, Licensing Activities, Licensing Department, Office of the Comptroller of the Currency, 250 E Street, SW., Washington, DC 20219.

Board: Cindy Ayouch, Federal Reserve Board Clearance Officer, (202) 452-3829, Division of Research and Statistics, Board of Governors of the Federal Reserve System, 20th and C Streets, NW., Washington, DC 20551. Telecommunications Device for the Deaf (TDD) users may call (202) 263-4869.

FDIC: Thomas Nixon, (202) 898-8766, Legal Division, Federal Deposit Insurance Corporation, 550 17th Street, NW., Washington, DC 20429.

OTS: Marilyn K. Burton, OTS Clearance Officer, (202) 906-6467; Frances C. Augello, Senior Counsel, Business Transactions Division, (202) 906-6151; Patricia D. Goings, Regulatory Analyst, Supervision Policy, (202) 906-5668; or Damon C. Zaylor, Regulatory Analyst, Supervision Policy, (202) 906-6787, Office of Thrift Supervision, 1700 G Street, NW., Washington, DC 20552.

SUPPLEMENTARY INFORMATION: Proposal to extend for three years, with revision, the following currently approved collections of information:

Report Titles: Interagency Biographical and Financial Report and Interagency Notice of Change in Control.

OCC's Title: Comptroller's Licensing Manual (Manual). The specific portions of the Manual covered by this notice are those that pertain to the “Background Investigations” and “Change in Bank Control” booklets of the Manual and various portions to which the OCC is making technical and clarifying changes. The OCC also will submit to OMB for renewal the Manual in its entirety.

Board's Additional Title: Interagency Notice of Change in Director or Senior Executive Officer. The Board also is proposing to extend this form, without revision, which is part of this information collection.

OMB Numbers:

OCC: 1557-0014.

Board: 7100-0134.

FDIC: Interagency Biographical and Financial Report, 3064-0006; Interagency Notice of Change in Control, 3064-0019.

OTS: Interagency Biographical and Financial Report, 1550-0005, 1550-0015, 1550-0047; Interagency Notice of Change in Control, 1550-0032.

Form Numbers:

OCC: None.

Board: FR 2081a, b, c.

FDIC: Interagency Biographical and Financial Report, Form 6200-06; Interagency Notice of Change in Control, Form 6822-01.

OTS: Interagency Biographical and Financial Report, Form 1623; Interagency Notice of Change in Control, Form 1622.

Affected Public: Individuals or households; businesses or other for-profit.

Type of Review: Revision of currently approved collections.

Estimated Number of Respondents:

OCC: Interagency Biographical and Financial Report—450; Interagency Notice of Change in Control—17; Satisfaction Survey—680; Conversion—20; Capital—150.

Board: Interagency Biographical and Financial Report—850; Interagency Notice of Change in Control—120; and Interagency Notice of Change in Director or Senior Executive Officer—121.

FDIC: Interagency Biographical and Financial Report—1,769; Interagency Notice of Change in Control—27.

OTS: Interagency Biographical and Financial Report—886; Interagency Notice of Change in Control—35.

Frequency of Response: On occasion.

Estimated Annual Burden Hours per Response:

OCC: Interagency Biographical and Financial Report—4; Interagency Notice of Change in Control—30; Satisfaction Survey—0.50; Conversion—4.5; Capital—1.

Board: Interagency Biographical and Financial Report—4; Interagency Notice of Change in Control—30; Interagency Notice of Change in Director or Senior Executive Officer—2.

FDIC: Interagency Biographical and Financial Report—4 ; Interagency Notice of Change in Control—30.

OTS: Interagency Biographical and Financial Report—4; Interagency Notice of Change in Control—30.

Estimated Total Annual Burden Hours:

OCC: Interagency Biographical and Financial Report—1,800; Interagency Notice of Change in Control—510; Satisfaction Survey—340; Conversion—90; Capital—150.

Board: Interagency Biographical and Financial Report—3,400; Interagency Notice of Change in Control—3,600; and Interagency Notice of Change in Director or Senior Executive Officer—242.

FDIC: Interagency Biographical and Financial Report—7,076; Interagency Notice of Change in Control—810.

OTS: Interagency Biographical and Financial Report—3,544; Interagency Notice of Change in Control—1,050.

General Description of Report: This information collection is mandatory. 12 U.S.C. 1828(c) (OCC, FDIC, and OTS), and 12 U.S.C. 1817(j), and 12 U.S.C. 1813(q) (Board). Except for select sensitive items, this information collection is not given confidential treatment. Small businesses, that is, small institutions, are affected.

Abstract: This submission covers a revision to the Agencies' Interagency Biographical and Financial Report. The Agencies use the biographical information to evaluate the competence, experience, character, and integrity of the persons proposed as organizers, senior executive officers, directors, or principal shareholders of depository institutions or their holding companies. The Agencies use the financial information to evaluate the financial ability of those persons. Finally, the Agencies also use this form to evaluate proposed acquisitions.

This submission also covers a revision to the Agencies' Interagency Notice of Change in Control. An individual, a group, or a company that proposes to acquire control of a depository institution or its holding company must submit prior notice of that intent to the appropriate Agency pursuant to the Change in Bank Control Act and the Agencies' applicable regulations.

The Agencies need the information from both of these forms to ensure that the proposed transaction is permissible under law and regulation and is consistent with safe and sound banking practices. For example, the Agencies must consider the financial and managerial resources and future earnings prospects of an institution and its acquirers, directors, and executive management. Accordingly, the Agencies use the information to evaluate specific individuals' qualifications. Individuals organizing, acquiring control of, or managing a financial institution must provide this information.

This submission also covers the OCC's Satisfaction Survey; Conversion, and Capital sample applications; and various portions to which the OCC is making technical clarifying changes. The OCC sends a Satisfaction Survey to applicants after processing a filing and asks for information about the process. The survey is voluntary, but information received enables the OCC to refine its application process. The Conversion, and Capital sample documents have been reformatted from a letter submission to a numbered question type of submission that will facilitate the OCC's development of an electronic submission. Additionally, the OCC is submitting to OMB for renewal the Comptroller's Licensing Manual in its entirety.

This submission also covers the Board's Interagency Notice of Change in Director or Senior Executive Officer (FR 2081b), which is being extended without revision. The FR 2081b is used by an insured depository institution or its parent holding company(ies) to notify the appropriate regulatory agency of a proposed change in the board of directors or senior executive officer of such institution or holding company(ies). A notice of change is required if the depository institution is viewed to be in troubled condition by its primary Federal regulatory agency. The requirement applies to a depository institution or its holding company that is not in compliance with all minimum capital requirements, is in troubled condition or, otherwise, is required by the Board to provide such notices.

Current Actions: On June 9, 2004, the Agencies published in the Federal Register (67 FR 32414) a notice on the proposed revisions to these information collections. The comment period expired on August 9, 2004. The Agencies received no public comments, and each Agency is now submitting its request to OMB for approval of the extension, with revision, of these information collections, as proposed.

The Agencies modified certain sections of the Interagency Biographical and Financial Report (report), especially section 5, to improve their ability to evaluate the character and integrity of a filer. The Agencies also amended the form to make it easier to understand the type and scope of information that must be provided. For example, the Agencies made each question in section 5 more descriptive to clarify for filers the circumstances where they should provide further explanatory information with the report.

In addition, the Agencies made changes to comply with section 508 of the Rehabilitation Act, which requires Federal departments and agencies, when developing and using electronic and information technology, to ensure that the relevant information and technology is accessible to individuals with disabilities. Specifically, the Agencies amended the report to improve the ability of the form to be read by screen reader software applications used by individuals with visual impairments.

The Agencies modified the Interagency Notice of Change in Control to gather relevant information to comply with section 307(c) of the Gramm-Leach-Bliley Act (GLBA). This section of GLBA requires the appropriate Agency to consult with the appropriate state insurance regulator prior to making any determination relating to the affiliation of a depository institution with a company engaged in insurance activities. As a result, the Agencies propose to add an item to the Interagency Notice of Change in Control to collect information regarding the name of an affiliated insurance company, a description of its insurance activities, and the name of the state in which the company is domiciled or in which it has a resident license. Exception: The OTS requires a company filing for a change in control of a federal savings bank or savings and loan association to use the appropriate holding company application and, therefore, it will not have any company filing this form.

The Agencies made technical corrections to the General Instructions section for both forms to make them uniform with revisions to other recently issued interagency forms and to ensure consistency, where appropriate, with other forms the Agencies use. The Agencies also added definitions for certain essential terms to the General Instructions for the Interagency Biographical and Financial Report to make it easier for filers to determine whether a given request for information applies to them.

Further, the OCC is changing its “General Policies and Procedures” booklet of the Manual by adding questions to its Satisfaction Survey (survey). The OCC sends a survey to applicants after the processing of the filing is final. This survey, which is voluntary, provides the OCC with information that enables it to refine and improve its application process. The additional questions relate to the electronic submission of certain types of applications and the effectiveness of the electronic filing system. The OCC also is changing to the format of the conversion and capital applications that are part of the “Conversions” and “Capital and Dividends” booklets of the Manual. Previously, the OCC used a letter format. The OCC is changing that format to an application type of filing so that it can accept the submission electronically. The changes to these documents are not material and are technical in nature. These changes are an administrative adjustment, and do not change the requirements on national banks.

Comments: All comments will become a matter of public record. Written comments are invited on:

a. Whether the information collection is necessary for the proper performance of the Agencies' functions, including whether the information has practical utility;

b. The accuracy of the Agencies' estimates of the burden of the information collection, including the validity of the methodology and assumptions used;

c. Ways to enhance the quality, utility, and clarity of the information to be collected;

d. Ways to minimize the burden of information collection on respondents, including through the use of automated collection techniques or other forms of information technology; and

e. Estimates of capital or start up costs and costs of operation, maintenance, and purchase of services to provide information.

Dated: September 2, 2004.
Stuart E. Feldstein,
Assistant Director, Legislative and Regulatory Activities Division, Office of the Comptroller of the Currency.
Board of Governors of the Federal Reserve System, August 27, 2004.
Jennifer J. Johnson,
Secretary of the Board.
Dated in Washington, DC, this 2nd day of September, 2004.
Robert E. Feldman,
Executive Secretary.
Dated: August 30, 2004.
By the Office of Thrift Supervision.
James E. Gilleran,
Director.

[FR Doc. 04-20881 Filed 9-15-04; 8:45 am]

BILLING CODE 4810-33; 6210-01; 6714-01; 6720-01-P